DEPARTMENT OF TRANSPORTATION

Federal Aviation Administration

14 CFR Part 21

[PS-AIR-21.50-01]

Policy Statement: Inappropriate Design Approval Holder (DAH) Restrictions on the Use and Availability of Instructions for Continued Airworthiness (ICA)

AGENCY: Federal Aviation Administration, DOT.

ACTION: Proposed policy statement; notice of availability and request for public comments.

SUMMARY: This document announces the availability of and request for public comments on the proposed policy statement addressing the action taken by some Design Approval Holders (DAH) restricting the availability, distribution, and use of Instructions (ICA) through contractual agreements or restrictive language in the actual ICA.

DATES: Comments must be received on or before December 5, 2011.

ADDRESSES: Send all comments on the proposed Policy Statement: PS-AIR-21.50-01, Inappropriate DAH Restrictions on the Use and Availability of ICA to: Federal Aviation Administration, Mike Monroney Aeronautical Center, 6500 S. MacArthur Blvd., ARB—Room 308, Oklahoma City, OK 73169. ATTN: John Cerra, AIR-110. You may electronically submit comments to the following Internet address: john.cerra@faa.gov. Include in the subject line of your message the following: PS-AIR-21.50-01, Inappropriate DAH Restrictions on the Use and Availability of ICA.

FOR FURTHER INFORMATION CONTACT: John Cerra, Aerospace Engineer, Federal Aviation Administration, Aircraft Certification Service, Aircraft Engineering Division, Airworthiness Procedures Branch, AIR-113, 6500 S. MacArthur Blvd., ARB—Room 308, Oklahoma City, OK 73169. Telephone (405) 954-7075, FAX (405) 954-2209, or e-Mail at: john.cerra@faa.gov.

SUPPLEMENTARY INFORMATION:

Comments Invited

You are invited to comment on the proposed policy addressing the actions of DAHs restricting the availability, distribution, and use of ICAs, by submitting such written data, views, or arguments to the address or FAX number listed above. Your comments should specify “Policy Statement: PS-AIR-21.50-01, Inappropriate DAH Restrictions on the Use and Availability of ICA,” in the subject line. The Director of the Aircraft Certification Service will consider all communications received on or before the closing date before issuing the final document.

Background

Title 14 of the Code of Federal Regulations (14 CFR) 21.50(b) requires the holder of a design approval to furnish at least one set of complete Instructions for Continued Airworthiness (ICA) to the owner of each type aircraft, aircraft engine, or propeller upon its delivery, or upon issuance of the first standard airworthiness certificate. Recent questions have emerged regarding requirements for a design approval holder (DAH) to make ICA available to a maintenance provider/repair station. It is not acceptable for a DAH to limit the distribution of ICA by imposing contractual requirements or adding restrictive language that would control the use of ICA by an owner/operator with respect to the maintenance of its product.

How To Obtain Copies

You may get an electronic copy of the policy statement PS-AIR-21.50-01, Inappropriate DAH Restrictions on the Use and Availability of ICA, via the Internet at: http://www.faa.gov/aircraft/draft_docs, and then select Policy, or by contacting the person named in FOR FURTHER INFORMATION CONTACT.

Susan J.M. Cabler,
Assistant Manager, Aircraft Engineering Division, Aircraft Certification Service.

[FR Doc. 2011-25883 Filed 10-5-11; 8:45 am]

BILLING CODE 4910-13-P